NUCLEAR REGULATORY COMMISSION

[Docket Nos. (as shown in Attachment 2) EA-03-097]

In the Matter of All Independent Spent Fuel Storage Installation Licensees Order Modifying License (Effective Immediately)

AGENCY: Nuclear Regulatory Commission.

ACTION: Issuance of order for implementation of additional security measures associated with access authorization.

FOR FURTHER INFORMATION CONTACT: Cynthia Barr, Project Manager, Licensing and Inspection Directorate, Spent Fuel Project Office, Office of Nuclear Material Safety and Safeguards, U.S. Nuclear Regulatory Commission, Rockville, MD 20852. Telephone: (301) 415-4015; fax number: (301) 415-8555; e-mail CSB2@nrc.gov.

SUPPLEMENTARY INFORMATION:

I. Introduction

Pursuant to 10 CFR 2.106, the Nuclear Regulatory Commission (NRC) is providing notice in the matter of all independent spent fuel storage installation licensees order modifying license (effective immediately).

II. Further Information

I

The licensees identified in Attachment 2 to this Order hold licenses issued by the U.S. Nuclear Regulatory Commission (NRC or the Commission) authorizing the operation of Independent Spent Fuel Storage Installation (ISFSI) facilities in accordance with the Atomic Energy Act of 1954 and Title 10 of the Code of Federal Regulations (10 CFR) part 50 and/or 10 CFR part 72. Commission regulations at 10 CFR 72.184 and 10 CFR 72.212 require these licensees to have a safeguards contingency plan to respond to threats of radiological sabotage, and to protect the spent fuel against the threat of radiological sabotage.

Inasmuch as an insider has an opportunity equal to or greater than any other person to commit radiological sabotage, the Commission has determined these measures to be prudent. This Order is being issued to all licensees who currently store spent fuel or have identified near term plans to store spent fuel in an ISFSI.

II

On September 11, 2001, terrorists simultaneously attacked targets in New York, N.Y., and Washington, DC, utilizing large commercial aircraft as weapons. In response to the attacks and intelligence information subsequently obtained, the Commission issued a number of Safeguards and Threat Advisories to its licensees in order to strengthen licensees' capabilities and readiness to respond to a potential attack on a nuclear facility. On October 16, 2002, the Commission issued Orders to the licensees of operating independent spent fuel storage installations to put the actions taken in response to the Advisories in the established regulatory framework and to implement additional security enhancements which emerged from the NRC's ongoing comprehensive review. The Commission has also communicated with other Federal, State, local government agencies and industry representatives to discuss and evaluate the current threat environment in order to assess the adequacy of security measures at licensed facilities. In addition, the Commission has been conducting a comprehensive review of its safeguards and security programs and requirements.

As a result of its consideration of current safeguards and security requirements, as well as a review of information provided by the intelligence community, the Commission has determined that certain additional security measures are required to address the current threat environment in a consistent manner throughout the nuclear ISFSI community. Therefore, the Commission is imposing requirements, as set forth in Attachment 1 ¹ of this Order, on all licensees of these facilities. These requirements, which supplement existing regulatory requirements, will provide the Commission with reasonable assurance that the public health and safety and common defense and security continue to be adequately protected in the current threat environment. These requirements will remain in effect until the Commission determines otherwise.

¹ Attachment 1 contains SAFEGUARDS INFORMATION and will not be released to the public.

The Commission recognizes that licensees may have already initiated many of the measures set forth in Attachment 1 to this Order in response to previously issued advisories, the October 2002 Order, or on their own. It also recognizes that some measures may not be possible or necessary at some sites, may need to be tailored to accommodate the specific circumstances existing at the licensee's facility to achieve the intended objectives and avoid any unforeseen effect on the safe storage of spent fuel.

Although the additional security measures implemented by licensees in response to the Safeguards and Threat Advisories have been adequate to provide reasonable assurance of adequate protection of public health and safety, the Commission concludes that these actions must be supplemented further because the current threat environment continues to persist. Therefore, it is appropriate to require certain additional security measures and these measures must be embodied in an Order, consistent with the established regulatory framework. In order to provide assurance that licensees are implementing prudent measures to achieve a consistent level of protection to address the current threat environment, licenses issued pursuant to 10 CFR 72.40 and 10 CFR 72.210 to the licensees identified in Attachment 2 to this Order shall be modified to include the requirements identified in Attachment 1 to this Order. In addition, pursuant to 10 CFR 2.202, I find that in the circumstances described above, the public health, safety and interest require that this Order be immediately effective.

III

Accordingly, pursuant to Sections 53, 103, 104, 161b, 161i, 161o, 182 and 186 of the Atomic Energy Act of 1954, as amended, and the Commission's regulations in 10 CFR 2.202 and 10 CFR parts 50, 72 and 73, it is hereby ordered, effective immediately, that all licenses identified in Attachment 2 to this order is modified as follows:

A. All licensees shall, notwithstanding the provisions of any Commission regulation or license to the contrary, comply with the requirements described in Attachment 1 to this Order except to the extent that a more stringent requirement is set forth in the licensee's security plan. The licensees shall immediately start implementation of the requirements in Attachment 1 to the Order and shall complete implementation no later than 180 days from the date of this Order with the exception of the additional security measures B.4, which shall be implemented no later than 365 days from the date of this Order, or the first day that spent fuel is initially placed in the ISFSI, whichever is later.

B. 1. The Licensee shall, within twenty (20) days of the date of this Order, notify the Commission, (1) if it is unable to comply with any of the requirements described in Attachment 1, (2) if compliance with any of the requirements is unnecessary in their specific circumstances, or (3) if implementation of any of the requirements would cause the licensee to be in violation of the provisions of any Commission regulation or the facility license. The notification shall provide the licensee's justification for seeking relief from or variation of any specific requirement.

2. Any licensee that considers that implementation of any of the requirements described in Attachment 1 to this Order would adversely impact the safe storage of spent fuel must notify the Commission, within twenty (20) days of this Order, of the adverse safety impact, the basis for its determination that the requirement has an adverse safety impact, and either a proposal for achieving the same objectives specified in the Attachment 1 requirements in question, or a schedule for modifying the facility to address the adverse safety condition. If neither approach is appropriate, the licensee must supplement its response to Condition B.1 of this Order to identify the condition as a requirement with which it cannot comply, with attendant justifications as required under Condition B.1.

C. 1. All licensees shall, within twenty (20) days of this Order, submit to the Commission a schedule for achieving compliance with each requirement described in Attachment 1.

2. All licensees shall report to the Commission when they have achieved full compliance with the requirements described in Attachment 1.

D. Notwithstanding the provisions of 10 CFR 72.186 and 10 CFR 72.212(b)(5), all measures implemented or actions taken in response to this Order shall be maintained until the Commission determines otherwise. Licensee's response to Conditions B.1, B.2, C.1, and C.2, above shall be submitted in accordance with 10 CFR 72.4. In addition, licensee submittals that contain Safeguards Information shall be properly marked and handled in accordance with 10 CFR 73.21. The Director, Office of Nuclear Material Safety and Safeguards, may, in writing, relax or rescind any of the above conditions upon demonstration by the Licensee of good cause.

IV

In accordance with 10 CFR 2.202, the licensee must, and any other person adversely affected by this Order may, submit an answer to this Order, and may request a hearing on this Order, within twenty (20) days of the date of this Order. Where good cause is shown, consideration will be given to extending the time to request a hearing. A request for extension of time in which to submit an answer must be made in writing to the Director, Office of Nuclear Material Safety and Safeguards, U.S. Nuclear Regulatory Commission, Washington, DC 20555, and include a statement of good cause for the extension. The answer may consent to this Order. Unless the answer consents to this Order, the answer shall, in writing and under oath or affirmation, specifically set forth the matters of fact and law on which the licensee or other person adversely affected relies and the reasons as to why the Order should not have been issued. Any answer or request for a hearing shall be submitted to the Secretary, Office of the Secretary of the Commission, U.S. Nuclear Regulatory Commission, ATTN: Rulemakings and Adjudications Staff, Washington, DC 20555. Copies also shall be sent to the Director, Office of Nuclear Material Safety and Safeguards, U.S. Nuclear Regulatory Commission, Washington, DC 20555, to the Assistant General Counsel for Materials Litigation and Enforcement at the same address, to the Regional Administrator for NRC Region I, II, III or IV as appropriate for the specific facility; and to the licensee if the answer or hearing request is by a person other than the licensee. Because of possible disruptions in delivery of mail to United States Government offices, it is requested that requests for a hearing be transmitted to the Secretary of the Commission either by means of facsimile transmission to 301-415-1101 or by e-mail to hearingdocket@nrc.gov and also to the Office of General Counsel either by means of facsimile transmission to 301-415-3725 or by e-mail to OGCMailCenter@nrc.gov. If a person other than the licensee requests a hearing, that person shall set forth with particularity the manner in which his/her interest is adversely affected by this Order and shall address the criteria set forth in 10 CFR 2.714(d).

If a hearing is requested by the Licensee or a person whose interest is adversely affected, the Commission will issue an Order designating the time and place of any hearing. If a hearing is held, the issue to be considered at such hearing shall be whether this Order should be sustained.

Pursuant to 10 CFR 2.202(c)(2)(i), the Licensee may, in addition to demanding a hearing at the time the answer is filed or sooner, move the presiding officer to set aside the immediate effectiveness of the Order on the grounds that the Order, including the need for immediate effectiveness, is not based on adequate evidence but on mere suspicion, unfounded allegations or error.

In the absence of any request for hearing or written approval of an extension of time in which to request a hearing, the provisions specified in Section III above shall be final twenty (20) days from the date of this Order without further order or proceedings. If an extension of time for requesting a hearing has been approved, the provisions specified in Section III shall be final when the extension expires, if a hearing request has not been received. An answer or a request for hearing shall not stay the immediate effectiveness of this order.

Dated this 18th day of August, 2004.
For the Nuclear Regulatory Commission.
Margaret V. Federline,
Deputy Director, Office of Nuclear Material Safety and Safeguards.

Attachment 2 To Order Independent Spent Fuel Storage Installation Addressee List

James E. Ellis, Manager, Morris Operation, General Electric Company, GE Morris Operation Plant, Docket No. 72-1, 7555 East Collins Road, Morris, IL 60450-9740.

David A. Christian, Senior Vice President and Chief Nuclear Officer, Virginia Electric and Power Company, Surry Power Station, Units 1 and 2, Docket No. 72-2, Innsbrook Technical Center, 5000 Dominion Boulevard, Glen Allen, VA 23060-6711.

J. W. Moyer, Senior Vice President and Chief Nuclear Officer, Progress Energy, H. B. Robinson Steam Electric Plant, Unit 2, Docket No. 72-3,3581 West Entrance Road, Hartsville, NC 29550.

Henry B. Barron, Group Vice President Nuclear Generation and Chief Nuclear Officer, Duke Power Company, Oconee Nuclear Station, Units 1, 2 and 3, Docket No. 72-4, 526 South Church Street, EC07H, P.O Box 1006 (28201-1006), Charlotte, NC 28202.

John Paul Cowan, Executive Vice President and Chief Nuclear Officer, Nuclear Management Company, LLC, Point Beach Nuclear Plant, Units 1 and 2, Docket No. 72-5, 700 First Street, Hudson, WI 54016.

John Paul Cowan, Executive Vice President and Chief Nuclear Officer, Nuclear Management Company, LLC, Palisades Nuclear Plant, Docket No. 72-7, 700 First Street, Hudson, WI 54016.

George Vanderheyden, Vice President, Calvert Cliffs Nuclear Power Plant, Inc. Calvert Cliffs Nuclear Power Plant, Units 1 and 2, Docket No. 72-8, 1650 Calvert Cliffs Parkway, Lusby, MD 20357-4702.

Elizabeth D. Sellers, Manager, INEEL c/o Deeann Long-Security, U.S. DOE, Idaho Operations Office, South, Fort Saint Vrain Power Station, Docket No. 72-9, 785 DOE Place, Mailstop 1170, Idaho Falls, ID 83401-1203,

John Paul Cowan, Executive Vice President and Chief Nuclear Officer, Nuclear Management Company, LLC, Prairie Island Nuclear Generating Plant, Docket No. 72-10, 700 First Street, Hudson, WI 54016.

Steve Redecker, Plant Manager, Rancho Seco Nuclear Generating Station, Sacramento Municipal Utility District, Rancho Seco Nuclear Generating Station, Docket No. 72-11, 14440 Twin Cities Road, Herald, CA 95638-9799,

Michael Kansler, President, Entergy Nuclear Operations, Inc. James A. FitzPatrick Nuclear Power Plant, Docket No. 72-12, 440 Hamilton Avenue, White Plains, NY 10601.

Jeffrey S. Forbes, Site Vice President, Entergy Nuclear Operations, Inc., Arkansas Nuclear One, Units 1 and 2, Docket No. 72-13, 1448 S. R. 333, Russelville, AR 72802.

Gary Leidich, Vice President, First Energy, Davis-Besse Nuclear Power Station, Docket No. 72-14, 76 S. Main Street, Akron, OH 44308.

Christopher M. Crane, President and Chief Nuclear Officer, Exelon Generation Company, LLC, Oyster Creek Nuclear Generating Station, Docket No. 72-15, 4300 Winfield Road, Warrenville, IL 60555.

David A. Christian, Senior Vice President and Chief Nuclear Officer, Virginia Electric and Power Company, North Anna Power Station, Docket No. 72-16, Innsbrook Technical Center, 5000 Dominion Boulevard, Glen Allen, VA 23060-6711.

Stephen M. Quennoz, Vice President Power Supply Generation, Portland General Electric Company, Trojan Nuclear Power Plant, Docket No. 72-17, 121 South West Salmon Street, Portland, OR 97204.

Elizabeth D. Sellers, Manager, INEEL, c/o Deeann Long-Security, US DOE, Idaho Operations Office, South, Three Mile Island Power Station, Unit 2, Docket No. 72-20, 785 DOE Place, Mailstop 1170, Idaho Falls, ID 83401-1203.

Bryce L. Shriver, Senior Vice President and CNO, Susquehanna Steam Electric Company, Susquehanna Steam Electric Station, Units 1 and 2, Docket No. 72-28, 2 North Ninth Street, Allentown, PA 18101.

Christopher M. Crane, President and CNO, Exelon Generation Company, LLC, Peach Bottom Atomic Power Station, Units 2 and 3, Docket No. 72-29, 4300 Winfield Road, Warrenville, IL 60555.

Michael Meisner, Chief Nuclear Officer, Maine Yankee Atomic Power Company, Maine Yankee Atomic Power Station, Docket No. 72-30, 321 Old Ferry Road, Wiscasset, ME 04578-4922.

Richard Kackick, Chief Nuclear Officer, Yankee Atomic Electric Company, Yankee Rowe Nuclear Power Station, Docket No. 72-31, 19 Midstate Drive, Suite 200, Auburn, MA 01501.

John Paul Cowan, Executive Vice President and Chief Nuclear Officer, Nuclear Management Company, LLC, Duane Arnold Energy Center, Docket No. 72-32, 700 First Street, Hudson, WI 54016.

Karl Singer, Chief Nuclear Officer, Tennessee Valley Authority, Sequoyah Nuclear Plant, Units 1 and 2, Docket No. 72-34, 1101 Market Street 6A Lookout Place, Chattanooga, TN 37402-2801.

J.V. Parrish, Chief Nuclear Officer, Energy Northwest MD 1023, Columbia Generating Station, Docket No. 72-35, Snake River Warehouse North Power Loop, Richland, WA 99352.

Louis Sumner, Site Vice President, Southern Nuclear Operating Company, Edwin I. Hatch Nuclear Plant, Units 1 and 2, Docket No. 72-36, 40 Inverness Center Parkway, Birmingham, AL 35242.

Christopher M. Crane, President and Chief Nuclear Officer, Exelon Generation Company, LLC, Dresden Nuclear Power Station, Units 2 and 3, Docket No. 72-37, 4300 Winfield Road, Warrenville, IL 60555.

Henry B. Barron, Group Vice President Nuclear Generation and Chief Nuclear Officer, Duke Power Company, William B. McGuire Nuclear Station, Units 1 and 2, Docket No. 72-38, 526 South Church Street, EC07H, P.O Box 1006 (28201-1006), Charlotte, NC 28202.

Wayne A. Norton, President, Connecticut Yankee Atomic Power Company, Haddam Neck Nuclear Plant, Docket No. 72-39, 362 Injun Hollow Road, East Hampton, CT 06424-3099.

Henry B. Barron, Group Vice President Nuclear Generation and Chief Nuclear Officer, Duke Power Company, Oconee Nuclear Station, Docket No. 72-40, 526 South Church Street, EC07H, P.O Box 1006 (28201-1006), Charlotte, NC 28202.

Harold B. Ray, Executive Vice President, Southern California Edison, San Onofre Nuclear Station, Units 2 and 3, Docket No. 72-41, 8631 Rush Street, Rosemead, CA 91770.

Mike Stinson, Site Vice President, Southern Nuclear Operating Company, Joseph M. Farley Nuclear Plant, Units 1 and 2, Docket No. 72-42, 40 Inverness Center Parkway, Birmingham, AL 35242.

Robert A. Fenech, Senior Vice President, Nuclear, Fossil, and Hydro Operations, Consumer Energy Company, Big Rock Point Restoration Site, Docket No. 72-43, 1945 W. Parnell Road, Jackson, MI 49201.

Gregg R. Overbeck, Senior Vice President, Arizona Public Service Company, Palo Verde Nuclear Generating Station, Units 1, 2 and 3, Docket No. 72-44, 5801 South Wintersburg Road Mail Station 7602, Tonopah, AZ 85354-7529.

David A. Christian, Senior Vice President, Chief Nuclear Officer, Virginia Electric and Power Company, Millstone Power Station, Units 2 and 3, Docket No. 72-47, Innsbrook Technical Center, 5000 Dominion Boulevard, Glen Allen, VA 23060-6711.

Paul Hinnenkamp, Vice President Operations, Entergy Operations, Inc., River Bend Station, Unit 1, Docket No. 72-49, 5485 U.S. Highway 61, St. Francisville, LA 70775.

Michael Kansler, President, Entergy Nuclear Operations, Indian Point Nuclear Generating Station, Units 2 and 3, Docket No. 72-51, 440 Hamilton Avenue, White Plains, NY 10601.

Karl Singer, Chief Nuclear Officer, Tennessee Valley Authority, Browns Ferry Nuclear Plant, Units 1, 2 and 3, Docket No. 72-52, 1101 Market Street 6A Lookout Place, Chattanooga, TN 37402-2801.

[FR Doc. 04-19404 Filed 8-24-04; 8:45 am]

BILLING CODE 7590-01-P